INTERNATIONAL TRADE COMMISSION

[Inv. No. 337-TA-462]

In the Matter of Certain Plastic Molding Machines with Control Systems Having Programmable Operator Interfaces Incorporating General Purpose Computers, and Components Thereof II; Notice of Commission Decision To Reverse an ALJ Determination on Statutory Authority and To Vacate ALJ Order No. 29; Termination of the Investigation

AGENCY: International Trade Commission.

ACTION: Notice.

SUMMARY: Notice is hereby given that the U.S. International Trade Commission has determined to reverse an ALJ determination that subsection 337(g)(2) of the Tariff Act of 1930, as amended, 19 U.S.C. 1337(g)(2), contains the authority to issue a general exclusion order in an investigation in which all respondents appeared and have been terminated on the basis of settlement agreements. The Commission has also determined to vacate ALJ Order No. 29, denying a motion for summary determination of violation. Finally, the Commission has determined to terminate this investigation without reaching the issue of violation. The Commission will issue its Opinion shortly.

FOR FURTHER INFORMATION CONTACT: Jean Jackson, Esq., Office of the General Counsel, U.S. International Trade Commission, 500 E Street, SW., Washington, DC 20436, telephone (202) 205-3104. Copies of the ALJ's order and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS-ON-LINE) at http://dockets.usitc.gov/eol/public. Hearing-impaired persons are advised that information on this matter can be obtained by contacting the Commission's TDD terminal on 202-205-1810.

SUPPLEMENTARY INFORMATION: The Commission instituted the above-referenced investigation on August 23, 2001, based on a complaint filed by Milacron, Inc. (Milacron) of Cincinnati, OH, against 11 respondents. 66 FR 44374 (2001). The complaint, as supplemented, alleged violations of section 337 of the Tariff Act of 1930, as amended (19 U.S.C. 1337) in the importation into the United States, sale for importation, and sale within the United States after importation of certain plastic molding machines with control systems having programmable operator interfaces incorporating general purpose computers, and components thereof, by reason of infringement of claims 1-4 and 9-13 of U.S. Patent No. 5,062,052. All named respondents have been terminated from the investigation on the basis of settlement agreements.

On April 18, 2002, Milacron filed a motion to amend the procedural schedule so that it would have an opportunity to file a motion for summary determination of violation of section 337 and to request a general exclusion order. On April 24, 2002, the ALJ issued Order No. 27, granting Milacron's request to amend the procedural schedule in the investigation to allow Milacron the opportunity to file a motion for summary determination of violation and to seek a general exclusion order under Commission rule 210.16 (c)(2). On May 17, 2002, complainant filed its motion for summary determination and request for a recommendation supporting a general exclusion order.

On June 11, 2002, the ALJ issued Order No. 29 denying Milacron's motion for summary determination of violation. On June 18, 2002, the ALJ issued a one-paragraph ID (Order No. 30) terminating the investigation. On June 24 and June 25, 2002, respectively, Milacron and the IA petitioned for review of the ID and appealed Order No. 29.

The Commission determined to review and reverse the ALJ's ID terminating the investigation. 67 FR 47569 (July 19, 2002). The Commission also determined to review the ALJ's determination in Order No. 29 that the Commission has the statutory authority under section 337(g)(2) to issue a general exclusion order in an investigation in which all respondents have settled with complainant, and requested briefing on the issues under review. Id. Complainant and the IA filed briefs in response to the Commission's notice of review.

The authority for the Commission's determination is contained in section 337 of the Tariff Act of 1930, as amended (19 U.S.C. 1337), and in sections 210.24, 210.43(d), 210.44, and 210.45 of the Commission's rules of practice and procedure (19 CFR 210.24, 210.43(d), 210.44, and 210.45).

By order of the Commission.
Issued: January 21, 2003.
Marilyn R. Abbott,
Secretary to the Commission.

[FR Doc. 03-1652 Filed 1-23-03; 8:45 am]

BILLING CODE 7020-02-P